DEPARTMENT OF THE INTERIOR

Bureau of Indian Affairs

[212A2100DD/AAKC001030/A0A51010.999900]

Proclaiming Certain Lands as Reservation for the Shakopee Mdewakanton Sioux Community of Minnesota

AGENCY: Bureau of Indian Affairs, Interior.

ACTION: Notice of reservation proclamations.

SUMMARY: This notice informs the public that the Acting Assistant Secretary—Indian Affairs proclaimed two parcels as additions to the reservation of the Shakopee Mdewakanton Sioux Community.

DATES: These proclamations were made on January 6, 2021.

FOR FURTHER INFORMATION CONTACT: Ms. Sharlene M. Round Face, Bureau of Indian Affairs, Division of Real Estate Services, 1001 Indian School Road, NW, Box #44, Albuquerque, New Mexico 87104, Sharlene.roundface@bia.gov, (505) 563-3132.

SUPPLEMENTARY INFORMATION: This notice is published in the exercise of authority delegated by the Secretary of the Interior to the Assistant Secretary—Indian Affairs by part 209 of the Departmental Manual.

Proclamations were issued according to the Act of June 18, 1934 (48 Stat. 984; 25 U.S.C. 5110) for the lands described below, known as the Tinta Otunwe Parcel, consisting of 109.12 acres, more or less; and the Group E Parcel, consisting of 166.13 acres, more or less. The lands were proclaimed to be part of the Shakopee Mdewakanton Sioux Community of Minnesota Reservation in Scott County, Minnesota.

Shakopee Mdewakanton Sioux Community of Minnesota, 1 Parcel, Fifth Principal Meridian, Scott County, Minnesota, Legal Descriptions Containing 109.12 Acres, More or Less

Tinta Otunwe Parcel, 411 T 1026

Parcel 1:All that part of the Northwest Quarter of the Northeast Quarter, Section 21, Township 115 North, Range 22 West of the 5th P.M., Scott County, Minnesota, described as follows: Beginning at a point on the North and South Quarter line of said Section 21, distant 900.75 feet south of the North Quarter corner; thence south along said Quarter line a distance of 240.0 feet; thence west a distance of 544.5 feet to the point of beginning according to the United States Government Survey thereof.

Parcel 2:The Northwest ¼ of the Northeast ¼ of Section 21, Township 115 North, Range 22 West of the 5th P.M., Scott County, Minnesota, excepting therefrom the following described tract of land: All that part of the Northwest ¼ of the Northeast ¼ of Section 21, Township 115 North, Range 22 West of the 5th P.M., Scott County, Minnesota described as follows: Beginning at a point on the North and South Quarter line of said section 21 distant 900.75 feet south of the North Quarter corner; thence south along said Quarter line a distance of 240.0 feet; thence east a distance of 544.5 feet; thence north a distance if 240.0 feet; thence west a distance of 544.5 feet to a point of beginning, according to the United States Government Survey thereof.

Parcel 3:The north half of the south half of the Northeast Quarter (N½ of S½ of NE¼) of Section 21, Township 115 North, Range 22 West of the 5th P.M., Scott County, Minnesota, according to the United States Government Survey thereof.

Parcel 4:The south ½ of the south ½ of the Northeast ¼ except the west 1448.80 feet of the south ½ of the south ½ of the south ½ of the Northeast ¼, Section 21, Township 115 North, Range 22 west of the 5th P.M., Scott County, Minnesota, according to the United States Government Survey thereof.

The above described lands contain a total of 109.12 acres, more or less, which are subject to all valid rights, reservations, rights-of-way, and easements of record.

Shakopee Mdewakanton Sioux Community of Minnesota, 1 Parcel, Fifth Principal Meridian, Scott County, Minnesota, Legal Descriptions Containing 166.13 Acres, More or Less

Group E Parcel, 411 T 1025

Parcel 1:All that part of the following described PARCEL A, lying westerly of a line parallel with and 1086.40 feet easterly from the west line of the Northwest Quarter of Section 29, Township 115 North, Range 22 West of the 5th Principal Meridian, Scott County, Minnesota, as measured at a right angle, and its extensions.

PARCEL A:All that land lying and being in the County of Scott and State of Minnesota described as follows, to-wit:

The North Half of the Northwest Quarter (N ½ of NW ¼), the Southwest Quarter of the Northwest Quarter (SW ¼ of NW ¼) and all that part of the Southeast Quarter of the Northwest Quarter, lying North and West of a line commencing at the Northeast corner of said tract and running through the center thereof in a direct course to the Southwest corner thereof, of Section Twenty-nine (29), and all of the above described land being in Township One Hundred Fifteen (115) North, Range Twenty-two (22) West of the 5th Principal Meridian, Scott County, Minnesota, according to the Government Survey thereof, excepting the East two (2) rods of the above described land being subject to a road easement;

and excepting therefrom: The Northwest Quarter of the Southeast Quarter of Section 29, Township 115 North, Range 22 West of the 5th Principal Meridian, Scott County, Minnesota. Together with that part of the Southwest Quarter of the Northeast Quarter of said Section 29, lying South of the North 363.00 feet of said Southwest Quarter of the Northeast Quarter;

and excepting therefrom: The East 400.00 feet of the Northeast Quarter of the Northwest Quarter of Section 29, Township 115 North, Range 22 West of the 5th Principal Meridian, Scott County, Minnesota. Subject to an easement for Highway purposes over the North 75.00 feet as designated in Document No. 148471. Together with that part of the East 400.00 feet of the Southeast Quarter of the Northwest Quarter of said Section 29, lying Northwesterly of a line drawn from the Northeast corner of said Southeast Quarter of the Northwest Quarter, Southwesterly to the Southwest corner of said Southeast Quarter of the Northwest Quarter;

and excepting therefrom: A tract of land in the Northwest Quarter (NW ¼) of Section 29, Township 115 North, Range 22 West of the 5th Principal Meridian; Scott County, Minnesota described as follows: Beginning at the Southwest corner of said Northwest Quarter (NW ¼) and thence East along the South line thereof a distance of 160.2 feet to the center line of County Road No. 17; thence Northwesterly along said center line to its intersection with the West line of said Northwest Quarter (NW ¼); thence South along said West line to the point of beginning; subject to said road right-of-way.

Parcel 2:All that part of the following described PARCEL A, lying easterly of a line parallel with and 1086.40 feet easterly from the west line of the Northwest Quarter of Section 29, Township 115 North, Range 22 West of the 5th Principal Meridian, Scott County, Minnesota, as measured at a right angle, and its extensions.

PARCEL A:All that land lying and being in the County of Scott and State of Minnesota described as follows, to-wit:

The North Half of the Northwest Quarter (N ½ of NW ¼), the Southwest Quarter of the Northwest Quarter (SW ¼ of NW ¼) and all that part of the Southeast Quarter of the Northwest Quarter, lying North and West of a line commencing at the Northeast corner of said tract and running through the center thereof in a direct course to the Southwest corner thereof, of Section Twenty-nine (29), and all of the above described land being in Township One Hundred Fifteen (115) North, Range Twenty-two (22) West of the 5th Principal Meridian, Scott County, Minnesota, according to the Government Survey thereof, excepting the East two (2) rods of the above described land being subject to a road easement;

and excepting therefrom: The Northwest Quarter of the Southeast Quarter of Section 29, Township 115 North, Range 22 West of the 5th Principal Meridian, Scott County, Minnesota. Together with that part of the Southwest Quarter of the Northeast Quarter of said Section 29, lying South of the North 363.00 feet of said Southwest Quarter of the Northeast Quarter;

and excepting therefrom: The East 400.00 feet of the Northeast Quarter of the Northwest Quarter of Section 29, Township 115 North, Range 22 West of the 5th Principal Meridian, Scott County, Minnesota. Subject to an easement for Highway purposes over the North 75.00 feet at designated in Document No. 148471. Together with that part of the East 400.00 feet of the Southeast Quarter of the Northwest Quarter of said Section 29, lying Northwesterly of a line drawn from the Northeast corner of said Southeast Quarter of the Northwest Quarter, Southwesterly to the Southwest corner of said Southeast Quarter of the Northwest Quarter;

and excepting therefrom: A tract of land in the Northwest Quarter (NW ¼) of Section 29, Township 115 North, Range 22 West of the Fifth Principal Meridian; Scott County, Minnesota described as follows: Beginning at the Southwest corner of said Northwest Quarter (NW ¼) and thence East along the South line thereof a distance of 160.2 feet to the center line of County Road No. 17; thence Northwesterly along said center line to its intersection with the West line of said Northwest Quarter (NW ¼); thence South along said West line to the point of beginning; subject to said road right-of-way.

Parcel 3:The East 400 feet of the Northeast Quarter of the Northwest Quarter of Section 29, Township 115 North, Range 22 West of the 5th Principal Meridian, Scott County Minnesota AND that part of the East 400 feet of the Southeast Quarter of the Northwest Quarter of said Section 29, lying northwesterly of a line drawn from the northeast corner of said Southeast Quarter of the Northwest Quarter, southwesterly to the southwest corner of said Southeast Quarter of the Northwest Quarter, according to the United States Government Survey thereof and situate in Scott County, Minnesota.

Parcel 4:All that part of the Southeast Quarter of the Northwest Quarter (SE¼ of NW¼) of Section 29, Township 115 North, Range 22 West of the 5th Principal Meridian, Scott County, Minnesota, lying South and East of a line commencing at the Northeast corner thereof and running through the center thereof in a direct line to the Southwest corner thereof,

Together with a non-exclusive easement for travel purposes over and across the East two rods of the Northeast Quarter of the Northwest Quarter (NE¼ of NW¼) and that part of the SE¼ of NW¼, Section 29, Township 115 North, Range 22 West of the 5th Principal Meridian, Scott County, Minnesota, described as follows: Commencing at the Northeast corner of the SE¼ of NW¼; thence West on the North line of said SE¼ of NW¼ 2 rods; thence South 2 rods; thence in a Northeasterly direction 2 rods to the point of beginning.

Parcel 5:The North 363.00 feet of the Southwest Quarter of the Northeast Quarter (SW¼ of NE¼), excepting therefrom the east 300 feet, Section 29, Township 115 North, Range 22 West of the 5th Principal Meridian, according to the United States Government Survey thereof and situate in Scott County, Minnesota.

Abstract Property

The above described lands contain a total of 166.13 acres, more or less, which are subject to all valid rights, reservations, rights-of-way, and easements of record. The above described lands contain a combined total of 276.25 acres, more or less. This proclamation does not affect title to the lands described above, nor does it affect any valid existing easements for public roads, highways, public utilities, railroads and pipelines, or any other valid easements or rights-of-way or reservations of record.

Tara Sweeney,
Assistant Secretary—Indian Affairs.

[FR Doc. 2021-00339 Filed 1-11-21; 8:45 am]

BILLING CODE 4337-15-P